DEPARTMENT OF AGRICULTURE

Office of the Secretary

Abolishment of Privacy Act System of Records

AGENCY: Office of the Secretary, USDA.

ACTION: Notice of abolishment of records systems.

SUMMARY: In accordance with the Privacy Act of 1974, the Department of Agriculture (USDA) is abolishing an existing Forest Service Privacy Act system of records. A review of USDA/FS-35 Congressional Correspondence has concluded that the records in the system are covered under another USDA SORN entitled USDA/OES-1 USDA Enterprise Content Management (ECM), and therefore is being abolished.

DATES: This notice is effective on December 29, 2011.

ADDRESSES: For additional information contact Forest Service Privacy Act Officer, USDA Forest Service, 1400 Independence Avenue SW, Mail Stop 1143, Washington, DC 20250-1143, wo_foia@fs.fed.us, facsimile to (202) 260-3245. Individuals who use telecommunication devices for the deaf (TDD) may call the Federal Relay Service (FRS) at 1-(800) 877-8339 between 8 a.m. and 8 p.m., Eastern Standard time, Monday through Friday.

FOR FURTHER INFORMATION CONTACT: Assistant Director, Correspondence Records Management, USDA, Forest Service, 1400 Independence Avenue SW, Mailstop 1152, Washington, DC 20250-1112, (202) 401-4071.

SUPPLEMENTARY INFORMATION: Pursuant to the Privacy Act, and as part of the Forest Service's ongoing effort to review and update system of records notices, we are abolishing one record system: Congressional Correspondence. This notice identifies a Forest Service system of records that is now maintained in another Privacy Act System of Records, USDA/OES-1 USDA Enterprise Content Management; as published in the Federal Register on October 3, 2006. This system is abolished and removed from the inventory of the USDA System of Records.

Dated: December 5, 2011.
Thomas J. Vilsack,
Secretary.

[FR Doc. 2011-33459 Filed 12-28-11; 8:45 am]

BILLING CODE 3410-11-P